ENVIRONMENTAL PROTECTION AGENCY

40 CFR Part 180

[EPA-HQ-OPP-2011-0759; FRL-9371-3]

Buprofezin Pesticide Tolerances; Technical Correction

AGENCY: Environmental Protection Agency (EPA).

ACTION: Final rule; technical correction.

SUMMARY: EPA issued a final rule in the Federal Register of Wednesday, October 17, 2012, concerning buprofezin pesticide tolerances. This document corrects a typographical error.

DATES: This final rule correction is effective December 7, 2012.

ADDRESSES: The docket for this action, identified by docket identification (ID) number EPA-HQ-OPP-2011-0759, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Amaris Johnson, Registration Division (7505P), Office of Pesticide Programs, Environmental Protection Agency, 1200 Pennsylvania Ave. NW., Washington, DC 20460-0001; telephone number: (703) 305-9542; email address: johnson.amaris@epa.gov.

SUPPLEMENTARY INFORMATION:

I. Does this action apply to me?

The Agency included in the final rule a list of those who may be potentially affected by this action.

II. What does this technical correction do?

The preamble for FR Doc. 2012-25548 published in the Federal Register issue of Wednesday, October 17, 2012 (77 FR 63745) (FRL-9364-9) is corrected as follows: On page 63750, third column, under Unit IV. D., Revisions to Petitoned-for Tolerances, in the second paragraph, correct the last word in the paragraph, which now reads “Logan” to read “Longan.”

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because it is a typographical error only. EPA finds that this constitutes good cause under 5 U.S.C. 553(b)(3)(B).

IV. Do any of the statutory and executive order reviews apply to this action?

This technical correction only revises the spelling of one commodity and does not otherwise change the original final rule. As a technical correction, this action is not subject to the statutory and executive order review requirements. For information about the statutory and executive order review requirements as they relate to the final rule, see Unit VI. in the Federal Register of October 17, 2012 (77 FR 63745) (FRL-9364-9).

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: November 30, 2012.
Lois Rossi,
Director, Registration Division, Office of Pesticide Programs.

Therefore, 40 CFR part 180 is corrected as follows:

PART 180—[AMENDED]

1. The authority citation for part 180 continues to read as follows:

Authority: 21 U.S.C. 321(q), 346a and 371.

2. In § 180.511, remove from the table in paragraph (a), the entry for “Logan” and add an entry for “Longan” to read as follows:

§ 180.511 Buprofezin; tolerances for residues.

(a) * * *

Commodity | Parts per million
* * * * *
Longan | 0.30
* * * * *

* * * * *

[FR Doc. 2012-29680 Filed 12-6-12; 8:45 am]

BILLING CODE 6560-50-P